ENVIRONMENTAL PROTECTION AGENCY

[EPA-HQ-OAR-2010-0258; FRL 9908-56-OEI]

Information Collection Request Submitted to OMB for Review and Approval; Comment Request; Alternative Affirmative Defense Requirements for Ultra-Low Sulfur Diesel (Renewal)

AGENCY: Environmental Protection Agency (EPA).

ACTION: Notice.

SUMMARY: The Environmental Protection Agency (EPA) has submitted an information collection request (ICR), “Alternative Affirmative Defense Requirements for Ultra-low Sulfur Diesel” (EPA ICR No. 2364.04, OMB Control No. 2060-0639) to the Office of Management and Budget (OMB) for review and approval in accordance with the Paperwork Reduction Act (44 U.S.C. 3501 et seq.). This is a proposed extension of the ICR, which is currently approved through March 31, 2014. Public comments were previously requested via the Federal Register (78 FR 78953) on December 27, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 23, 2014.

ADDRESSES: Submit your comments, referencing Docket ID Number EPA-HQ-OAR-2010-0258, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Geanetta Heard, Fuel Compliance Center, 6406J, Environmental Protection Agency, 1200 Pennsylvania Ave. NW., Washington, DC 20460; telephone number: 202-343-9017; fax number: 202-565-2085; email address: heard.geanetta@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The highway diesel program regulations require motor vehicle (highway) diesel fuel sold at retail stations to contain 15 parts per million (ppm) of sulfur or less. Under the highway diesel fuel regulations, where a violation of the 15 ppm sulfur standard is identified at a retail outlet, the retailer responsible for dispensing the noncompliant fuel is deemed liable, as well as the refiner(s), importer(s) and distributor(s) of such fuel. The highway diesel regulations further provide, however, that any person deemed liable can rebut this presumption by establishing an affirmative defense that includes, among other things, showing that it conducted a quality assurance sampling and testing program as prescribed by the regulations.

Form Numbers: None.

Respondents/affected entities: 5.

Respondent's obligation to respond: Mandatory.

Estimated number of respondents: 5 (total).

Frequency of response: On occasion.

Total estimated burden: 80 hours (per year). Burden is defined at 5 CFR 1320.03(b).

Total estimated cost: $9,200 (per year), which includes $0 annualized capital or operation & maintenance costs.

Changes in Estimates: There is a decrease of 240 hours in the total estimated respondent burden compared with the ICR currently approved by OMB. There is no change in the burden per response. Instead, the respondent universe and responses have decreased from 20 to five due to a higher than expected compliance rate. There was in increase in cost to the industry per response of $704 due to more accurate numbers used to calculate the industry burden and to account for inflation.

Richard T. Westlund,
Acting Director, Collection Strategies Division.

[FR Doc. 2014-06234 Filed 3-21-14; 8:45 am]

BILLING CODE 6560-50-P